DEPARTMENT OF TRANSPORTATION

National Highway Traffic Safety Administration

[Docket No. NHTSA-2024-0070]

Agency Information Collection Activities; Notice and Request for Comment; Crash Avoidance Warning System Human-Machine Interface (HMI) Research

AGENCY: National Highway Traffic Safety Administration (NHTSA), Department of Transportation (DOT).

ACTION: Notice and request for comments on a request for approval of a new information collection.

SUMMARY: The National Highway Traffic Safety Administration (NHTSA) invites public comments on our intention to request approval from the Office of Management and Budget (OMB) for a new information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval titled, “Crash Avoidance Warning System Human-Machine Interface (HMI) Research.”

DATES: Comments must be submitted on or before January 6, 2025.

ADDRESSES: You may submit comments identified by the Docket No. NHTSA-2024-0070 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact: Alexandria Rossi-Alvarez, Ph.D., Office of Vehicle Safety Research, Applied Crash Avoidance Research Division NSR-120, Vehicle Research & Test Center, 10820 State Route 347, East Liberty, OH 43319; a.rossi-alvarez@dot.gov; (937) 666-3322.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Crash Avoidance Warning System Human-Machine Interface (HMI) Research.

OMB Control Number: New.

Form Number(s): NHTSA Form (2006): Interest Response Form; NHTSA Form (2007): Candidate Screening Questions; NHTSA Form (2008): Appointment Scheduling; NHTSA Form (2009): Participant Informed Consent Form; and NHTSA Form (2010): Post-Drive Questionnaire.

Type of Request: New information collection.

Type of Review Requested: Regular.

Requested Expiration Date of Approval: 3 years from date of approval.

Summary of the Collection of Information

This information collection request (ICR) is to request approval to conduct 6 new voluntary information collections as part of a one-time research study of drivers' interactions with crash avoidance technology with different human-machine interface (HMI) characteristics. NHTSA is seeking to conduct the research effort involving up to 200 licensed drivers without assisted devices between the ages of 25 to 65 from the greater Columbus, Ohio area. The collection of information will consist of (1) Interest Response Form to be administered up to 750 potential research participants, (2) Candidate Screening Questions to be administered up to 375 potential research participants, (3) Appointment Scheduling, (4) Participant Informed Consent Form to be administered to up to 200 research participants, (5) Study Data Collection, and (6) Post-Drive Questionnaire. This research involving collecting information from the public will help support NHTSA's vehicle safety efforts and potential future rulemaking actions.

Crash avoidance warning systems aid vehicle drivers in avoiding crashes by presenting alerts and warnings to inform drivers of situations in which the system has determined, via sensor information, that a crash is possible or imminent, depending on the situation. These systems communicate the occurrence of such conditions to drivers via different sensory modalities, such as visual or auditory signals or vibration of the seat or steering wheel. This research will seek to improve NHTSA's understanding of how crash avoidance warning system HMI characteristics affect system effectiveness and potential safety impacts.

The objective of this driving research is to examine driver behavior in using crash avoidance warning systems and assess effects of human-machine interface characteristics on drivers' behavior and driver response in crash-imminent scenarios. The research will involve driver behavior observation while driving on a test track, public roads, or in a simulated environment (i.e., driving simulator). Data collection may also involve stationary laboratory measurements relating to crash avoidance warning signal characteristics, such as stationary laboratory measurements of individuals' visual angles when gazing at in-vehicle visual signals (e.g., instrument panel symbols) and displays. Test vehicles will be equipped, as needed, with instrumentation for recording driver eye glance behavior, vehicle control inputs (steering wheel, accelerator pedal, and brake pedal inputs), vehicle position and speed, and turn signal status. During dynamic testing, sensors will determine and record the distances between the test vehicle and surrounding vehicles, as appropriate.

Response to this information collection is voluntary and will be conducted in phases corresponding to the different crash avoidance warning system types to be examined (i.e., forward, lateral, and rear crash avoidance). Research participants will be members of the general public living in the Columbus, OH area, participation will be voluntary, and appropriate monetary compensation (including the hours spent and the mileage traveled) will be provided. Participants will include licensed drivers aged 25 to 65 who are healthy and able to drive without assistive devices. Participants will be recruited using print (newspaper or flyer) or online study recruitment advertisements, and/or mailed invitations to registered Ohio owners of specific vehicle models. The study protocols will be reviewed and approved by the Sterling Institutional Review Board (IRB) before any data collection procedures begin. The research is to be performed one time with no additional requirements or questions once the person has completed the in-person study data collection. The information collected will be available for public consumption upon completion in a report accessible on the National Transportation Library and/or the Federal Register. Personal information will not be published in the technical reports. Analysis may also be used to inform NHTSA's future safety research and rulemaking efforts.

Analyses will be performed on the collected data documenting participants' driving and eye glance behavior, as well as their responses to crash avoidance alerts and warnings. Vehicle control metrics such as speed, headway, and steering and braking input characteristics may be compared across conditions. Analyses will also be performed on drivers' responses to any crash avoidance warnings presented, such as response time from visual crash avoidance warning signal onset to the time at which the driver's eye glance reaches the visual warning signal and the time at which the driver initiates a crash avoidance response.

Description of the Need for the Information and Proposed Use of the Information

NHTSA was established by the Highway Safety Act of 1970 (23 U.S.C. 401) to carry out a Congressional mandate to reduce deaths, injuries, and economic losses resulting from motor vehicle crashes on the Nation's highways. As part of this mandate, NHTSA through delegation (23 U.S.C. § 403), is authorized to conduct research as a foundation for developing traffic safety programs. As driver assistance technologies advance, they have the potential to dramatically reduce the number of motor vehicle crashes and injuries, as well as the associated economic costs. The safety and effectiveness of the crash avoidance warning systems depend on drivers understanding the capabilities and constraints of the systems, and the meaning of visual and auditory alerts or warnings provided.

Drivers successfully perceiving and understanding crash avoidance warnings is important for crash avoidance system effectiveness and mitigating crashes. In particular, drivers must comprehend the situation and respond quickly when a crash avoidance warning system indicates an imminent collision is likely. This research aims to assess the effects of crash avoidance warning system HMI characteristics on driver behavior, on driver response in crash-imminent scenarios, and on crash avoidance success. The research will compare various crash avoidance warning system HMI characteristics and examine participants' responses to the alerts and/or warnings.

The collection of information will consist of (1) Interest Response Form, (2) Candidate Screening Questions, (3) Appointment Scheduling, (4) Participant Informed Consent Form, (5) Study Data Collection, and (6) Post-Drive Questionnaire. The information to be collected will be used for the following purposes:

(1) Interest Response Form will be used to determine individuals' willingness to participate in the research and whether an individual qualifies for participation in this study based on specific information, such as annual mileage driven. Individuals' responses are reviewed to determine whether they meet the age, licensing, and annual driving mileage criteria:

a. Be aged 25-65 years (inclusive)

b. For drivers of light passenger vehicles: Hold a valid U.S. driver's license and drive at least 11,000 miles annually in light passenger vehicles

c. For drivers of heavy trucks: Hold a valid U.S. commercial driver's license and drive at least 11,000 miles annually in a commercial truck

(2) Candidate Screening Questions will be primarily used to ensure that participants meet driving record requirements of the contractor's insurance company, are free of recent criminal convictions, meet specific minimum health qualifications, and have reasonable availability to participate in the study. Health screening questions aim to identify candidate participants whose physical and health conditions and driving experience may be deemed generally `average' and that they can understand study documents.

a. Have no more than 2 points on current driving record

b. Have no criminal convictions in the past 3 years including criminal driving offenses

c. Have no uncorrected vision or hearing problems

d. Be in good general health, able to drive continuously and safely for a period of 2 hours without the need for assistive devices

e. Self-report that they are able to read, write, speak, and understand English

f. Be willing to drive to NHTSA's Vehicle Research and Test Center and spend up to approximately 3 hours participating in a research study

(3) Appointment Scheduling will be used to contact the candidates meeting the criteria and to schedule their study participation appointment. Contact with the selected participants will be by email, text message, or phone to schedule participation as needed.

(4) Participant Informed Consent Form will be used to describe the purpose, procedures, possible benefits and risks of the study. This form explains what information will be collected, how the information will be used, how it is maintained, who may use it, and secondary research and other uses.

(5) Study Data Collection will produce data documenting participants' driving and eye glance behavior for later analysis with respect to research questions addressing safety impacts of the crash avoidance warning system HMI characteristics.

(6) Post-Drive Questionnaire will be used to understand drivers' opinions regarding, degree of comfort experienced, and perceptions of safety associated with the different crash avoidance warning system HMI characteristics tested.

Affected Public: Research participants will be paid volunteers from the Columbus, OH area who are licensed drivers aged 25-65 years (inclusive), who drive at least 11,000 miles annually, are in good health, and do not require assistive devices to safely operate a vehicle and drive continuously for a period of up to 2 hours.

Estimated Number of Respondents: Candidate participant recruitment information will be collected in an incremental fashion to permit the determination of which individuals meet the criteria for research participation. All interested candidates (estimate: 750) will complete the Interest Response Form. A subset of individuals (estimate: 375) meeting the criteria for the Interest Response Form will be asked to complete Candidate Screening Questions. Those who complete and are eligible based on the Candidate Screening Questions will be contacted for Appointment Scheduling to be study participants, with a goal of 200 participants.

Frequency: Once.

This research will be conducted once in phases corresponding to the different crash avoidance warning system types to be examined (i.e., forward, lateral, and rear crash avoidance).

Estimated Total Annual Burden Hours: 239 hours. The annual estimated burden for the information collection is 239 hours. This is the aggregate of the estimated annual burden for 6 information collections that would be part of the one-time study. The 6 information collections include: (1) Interest Response Form to be administered to up to 250 potential research respondents; (2) Candidate Screening Questions to be administered to up to 125 research participants; (3) Appointment Scheduling to be administered to up to 67 research participants; (4) Participant Informed Consent Form to be administered to up to 67 research participants; (5) Study Data Collection; and (6) Post-Drive Questionnaire to be administered to up to 67 research participants.

The study will begin with a screening process to identify eligible participants. As stated above, the research team intends to identify 250 eligible participants to account for potential attrition to ensure that the target sample of 67 participants is achieved. Participant recruitment will be accomplished via online and print advertisements, and as needed, mailings to registered Ohio vehicle owners. Individuals interested in participation will respond to the recruitment advertisement by visiting a secure website containing a brief study description. The study description includes a web link that interested candidate participants can follow to begin the screening process. NHTSA estimates that the Interest Response Form takes, on average, 5 minutes to complete. Therefore, estimates the annual burden for Interest Response Form to be 21 hours (5 minutes × 250 respondents).

Individuals whose responses meet participation requirements will be selected to take the Candidate Screening Questions. The research team intends to identify 125 eligible participants to account for potential attrition to ensure that the target sample of 67 participants is achieved. Candidate participants are emailed a link to the electronically presented question set hosted on a secure website. NHTSA estimates that the Candidate Screening Questions takes, on average, 7 minutes to complete. Therefore, estimates the annual burden for Candidate Screening Questions to be 15 hours (7 minutes × 125 respondents).

Upon review of response data for the Candidate Screening Questions, candidates meeting the criteria will be contacted to schedule the study participation appointment. The research team intends to identify 67 eligible candidates. NHTSA estimates that the Appointment Scheduling takes, on average, 2 minutes to complete. Therefore, estimates the annual burden for Appointment Scheduling to be 2 hours (2 minutes × 67 respondents).

Each respondent will begin with a consenting process, which is completed on-site at the testing facility at the beginning of the study session. This consenting process includes an overview of the study and an explanation of the informed consent form. This consenting process is expected to take 35 minutes. Therefore, NHTSA estimates the total burden for obtaining informed consent to be 39 hours (35 minutes × 67 respondents).

Following consent, the participant will receive instructions on the study protocol. For driving data collection, the participant will be shown the vehicle, seated in the driver seat, and an eye-tracking system calibration will be performed. Driving will then commence while data are recorded to document vehicle performance and driver behavior. For stationary measurements, the individual would be seated in a stationary vehicle and asked to look at and/or listen to different crash avoidance warnings and provide verbal feedback as appropriate. This Study Data Collection will be conducted once and take approximately 130 minutes. Therefore, NHTSA estimates that the total burden for the Study Data Collection to be 145 hours (130 minutes × 67 respondents).

At the end, participants will complete a Post-Drive Questionnaire, estimated to take approximately 15 minutes. The total burden for the Post-Drive Questionnaire is estimated to be 17 hours (15 minutes × 67 respondents). The total annual burden for the entire study is estimated to be 239 hours.

The estimated annual burden time and opportunity cost burdens are summarized in the table below. The opportunity cost is calculated per hour based on Bureau of Labor Statistics Jan. 2024 Average Hourly Earnings data for “Total Private,” $34.55 (Accessed February 8, 2024, at https://www.bls.gov/news.release/empsit.t19.htm). The number of respondents and time to complete each question set are estimated as shown in the table. The time per question set is calculated by multiplying the number of respondents by the time per respondent and then converting from minutes to hours. The hour value for each question set is multiplied by the latest average hour earning estimate from the Bureau of Labor Statistics to obtain an estimated burden cost per question set. NHTSA estimates that the annual opportunity cost is approximately $8,245.

Table—Annual Burden Estimates
Information collection | Annual number of respondents | Frequency of response | Annual responses | Time per response (min) | Cost per response $34.55/hour | Annual estimated burden hours (rounded) | Annual opportunity costs (rounded)
Interest Response Form | 250 | 1 | 250 | 5 | $2.88 | 21 | $720
Candidate Screening Questions | 125 | 1 | 125 | 7 | 4.03 | 15 | 504
Appointment Scheduling | 67 | 1 | 67 | 2 | 1.15 | 2 | 77
Participant Informed Consent Form | 67 | 1 | 67 | 35 | 20.15 | 39 | 1,350
Study Data Collection | 67 | 1 | 67 | 130 | 74.86 | 145 | 5,016
Post-Drive Questionnaire | 67 | 1 | 67 | 15 | 8.64 | 17 | 579
Total Annual Burden |  |  |  |  |  | 239 | 8,245

Estimated Total Annual Burden Cost: $2,693.40.

There are no additional costs to respondents beyond the time spent participating in the study, completing the questionnaires and travel costs for the visit to the study site. Respondents for the Interest Response Form and the Candidate Screening Questions use their own electronic device to complete the questionnaires. They are not responsible for purchasing additional equipment nor software for this completion. Any email messages or phone calls made for the purposes of Appointment Scheduling are handled through personal devices as well.

Respondents selected, and who agree to participate in the Study Data Collection, will need to provide or obtain their own transportation to and from the study site. However, they are reimbursed for hours of participation (estimated 3 hours at $65 hour) and the cost of mileage driven to and from the study site and, therefore, incur no additional costs. The costs are minimal and are expected to be offset by the compensation that will be provided to the research participants. NHTSA estimates that each of the participants will travel on average 30 miles one-way to the research location (approximately 60 miles round trip). Using the IRS standard mileage rate of $0.67 per mile,¹ each respondent is expected to incur approximately $40.20 in transportation costs. Therefore, NHTSA estimates that the total costs to all respondents for the one-time study will be approximately $8,040 ($40.20 × 200 respondents). NHTSA estimates the total annual costs based on an average of 67 respondents a year. Accordingly, NHTSA estimates the total annual cost to be $2,693.40 per year ($40.20 × 67 respondents). All equipment required for conduct of the research will be provided by NHTSA. The respondents will be fairly compensated for their participation without being coercive.

¹ From Internal Revenue Service's 2024 standard mileage rates for self-employed and business. https://www.irs.gov/tax-professionals/standard-mileage-rates, last accessed May 14, 2024.

Public Comments Invited: The public is invited to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29A.

Cem Hatipoglu,
Associate Administrator, Vehicle Safety Research.

[FR Doc. 2024-25821 Filed 11-6-24; 8:45 am]

BILLING CODE 4910-59-P